DEPARTMENT OF ENERGY

Office of Science; Biological and Environmental Research Advisory Committee

AGENCY: Department of Energy.

ACTION: Notice of Open Meeting.

SUMMARY: This notice announces a meeting of the Biological and Environmental Research Advisory Committee. Federal Advisory Committee Act (Pub. L. 92-463, 86 Stat. 770) requires that public notice of these meetings be announced in the Federal Register.

DATES: Thursday, November 29, 2007, 9 a.m. to 5:30 p.m.; and Friday, November 30, 2007, 8:30 a.m. to 12:30 p.m.

ADDRESSES: American Geophysical Union (AGU), 2000 Florida Avenue, NW., Washington, DC 20009.

FOR FURTHER INFORMATION CONTACT: Dr. David Thomassen (301-903-9817; david.thomassen@science.doe.gov) Designated Federal Officer, Biological and Environmental Research Advisory Committee, U.S. Department of Energy, Office of Science, Office of Biological and Environmental Research, SC-23/Germantown Building, 1000 Independence Avenue, SW., Washington, DC 20585-1290. The most current information concerning this meeting can be found on the Web site: http://www.science.doe.gov/ober/berac/announce.html.

SUPPLEMENTARY INFORMATION: Purpose of the Meeting: To provide advice on a continuing basis to the Director, Office of Science of the Department of Energy, on the many complex scientific and technical issues that arise in the development and implementation of the Biological and Environmental Research Program.

Tentative Agenda

Thursday, November 29, 2007, and Friday, November 30, 2007:

• Updates on the Free Air Carbon Dioxide Enrichment (FACE) Report, Integrated Assessment Program Report, and Climate Change Committee of Visitors Report.

• Update on the Environmental Molecular Sciences Laboratory (EMSL).

• Updates on BERAC Charges.

• Update on GTL Bioenergy Research Centers: Oak Ridge National Laboratory, Lawrence Berkeley National Laboratory, and the University of Wisconsin.

• AmeriFlux Status Report, Ken Davis, Penn State University.

• National Academies of Science Report on Nuclear Medicine.

• Report by the Acting Associate Director of Science for Biological and Environmental Research.

• Report on FACE Research Workshop, Cheryl Kuske, Los Alamos National Laboratory.

• Science Talk, Kerry Emanuel, MIT, Hurricanes and Climate Change.

• Perspectives from the Office of Management and Budget, Mike Holland, OMB.

• New business.

• Public comment (10 minute rule).

Public Participation: The day and a half meeting is open to the public. If you would like to file a written statement with the Committee, you may do so either before or after the meeting. If you would like to make oral statements regarding any of the items on the agenda, you should contact David Thomassen at the address or telephone number listed above. You must make your request for an oral statement at least five business days before the meeting. Reasonable provision will be made to include the scheduled oral statements on the agenda. The Chairperson of the Committee will conduct the meeting to facilitate the orderly conduct of business. Public comment will follow the 10-minute rule. This notice is being published less than 15 days before the date of the meeting due to programmatic issues.

Minutes: The minutes of this meeting will be available for public review and copying within 45 days at the BERAC Web site, http://www.science.doe.gov/ober/berac/Minutes.html.

Issued in Washington, DC, on November 15, 2007.
Rachel Samuel,
Deputy Committee Management Officer.

[FR Doc. E7-22765 Filed 11-20-07; 8:45 am]

BILLING CODE 6450-01-P